FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (www.fmc.gov) or by contacting the Office of Agreements at (202) 523-5793 or tradeanalysis@fmc.gov.

Agreement No.: 012028-001.

Title: WWL/Hoegh Middle East Space Charter Agreement.

Parties: Hoegh Autoliners AS and Wallenius Wilhelmsen Logistics AS.

Filing Party: Wayne R. Rohde, Esq.; Sher & Blackwell LLP; 1850 M Street NW., Suite 900; Washington, DC 20036.

Synopsis: The Agreement would add the U.S. Gulf Coast, Mediterranean Sea, Persian Gulf, Gulf of Aden, Black Sea, Gulf of Oman and Indian Ocean to the geographic scope of the agreement.

Agreement No.: 012170.

Title: Crowley/SC Line Space Charter and Sailing Agreement.

Parties: Crowley Latin America Services, LLC and SC Line.

Filing Party: Wayne R. Rohde, Esquire; Cozen O'Connor; 1627 I Street NW., Suite 1100; Washington, DC 20006-4007.

Synopsis: The agreement authorizes SC Line to charter space to Crowley in the trade between the U.S. Atlantic Coast and ports in Panama.

Dated: May 11, 2012.
By Order of the Federal Maritime Commission.
Karen V. Gregory,
Secretary.

[FR Doc. 2012-11880 Filed 5-15-12; 8:45 am]

BILLING CODE 6730-01-P